DEPARTMENT OF HEALTH AND HUMAN SERVICES

Administration for Community Living

Agency Information Collection Activities; Submission for OMB Review; Public Comment Request; National Survey of Older Americans Act Participants [OMB 0985-0023]

AGENCY: Administration for Community Living, HHS.

ACTION: Notice.

SUMMARY: The Administration for Community Living is announcing that the proposed collection of information listed above has been submitted to the Office of Management and Budget (OMB) for review and clearance as required under the Paperwork Reduction Act of 1995. This 30-day notice collects comments on the information collection requirements related to the proposed revision for the information collection requirements related to the National Survey of Older Americans Act Participants.

DATES: Comments on the collection of information must be submitted electronically by 11:59 p.m. (EST) or postmarked by April 12, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Kristen Robinson, Administration for Community Living, Washington, DC 20201, by email at Kristen.Robinson@acl.hhs.gov, or by telephone at 202-795-7428.

SUPPLEMENTARY INFORMATION: In compliance with the Paperwork Reduction Act (44 U.S.C. 3506), the Administration for Community Living (ACL) has submitted the following proposed collection of information to OMB for review and clearance. The National Survey of Older Americans Act (OAA Section 202(f),) Participants information collection includes consumer assessment surveys for the Congregate and Home-delivered meal nutrition programs; Case Management, Homemaker, and Transportation Services; and the National Family Caregiver Support Program. This survey builds on earlier national pilot studies and surveys, as well as performance measurement tools developed by ACL grantees in the Performance Outcomes Measures Project (POMP). Changes identified as a result of these initiatives were incorporated into the last data collection package that was approved by OMB and are included in this proposed extension of a currently approved collection.

This information will be used by ACL to track performance outcome measures; support budget requests; comply with the GPRA Modernization Act of 2010 (Pub. L. 111-352) reporting requirements; provide national benchmark information; and inform program development and management initiatives.

In addition to the proposed extension of a currently approved collection of information, ACL is requesting approval for a one-time module on `Preferences and Needs Related to Community Living' to be added to the currently approved NSOAAP data collection effort. The module will be added to the 2024 collection instrument.

Most older adults want to remain living in their homes and communities as they age. According to a 2022 National Poll on Healthy Aging conducted by the University of Michigan, 88 percent of older adults reported it was important to them to be able to stay living safely in their homes for as long as possible. Unexpected medical events and declines in health, however, can sometimes make that difficult. The purpose of the one-time module on `Preferences and Needs Related to Community Living' is to better understand how prepared OAA recipients are to remain living in their homes as they age, so that the Aging Network can better tailor their programs and services to meet their clients' needs.

The results of this information collection will be used by ACL to:

• Provide refined national benchmarks for use by State agencies and area agencies on aging (AAAs).

• Provide secondary data for analysis of various Title III program evaluations.

• Provide performance information for key demographic subgroups which will enable ACL to identify variations in performance and examine the need for additional targeted technical assistance.

• Provide secondary data for analysis of `Preferences and Needs Related to Community Living' on access to and use of OAA programs and services among older adults that will be shared with states and AAAs to help them better structure their programs and services to help older adults remain safely in their homes and communities as long as possible.

The data will be used by the Senior official performing the duties of the Administrator and the Assistant Secretary for Aging for the Administration for Community Living, in testimony and presentations; it will be incorporated into the agency's Annual Report; and it will be used by program staff to identify areas that may need attention at the national level. Copies of the survey instruments and data from previous National Surveys of OAA Participants can be found on the Aging, Independence, and Disability (AGID) Program Data Portal at https://agid.acl.gov/. This IC collects demographic data from grantees receiving programs and services funded by HHS. ACL will adhere to best practices for collection of all demographic information when this information is collected for the programs listed in accordance with OMB guidance.

This includes, but is not limited to, guidance specific to the collection of sexual orientation and gender identity (SOGI) items that align with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation. Understanding these disparities can and should lead to improved service delivery for ACL's programs and populations served.

Comments in Response to the 60-Day Federal Register Notice

A 60-day FRN published in the FR on August 2, 2023, at 88 FR 50869. One public comment was received.

Data collection form | Comment | ACL response
NSOAAP Demographic Characteristics | The undersigned write to provide support for the Administration's efforts to retain a question assessing sexual orientation and add in a two-step question assessing gender identity amongst respondents to the NSOAAP. Questions measuring SOGI among respondents to the NSOAAP will serve a practical utility for the Administration as it will increase the Administration's ability to assess the needs of LGBTQ older Americans | ACL concurs and plans to maintain the sexual orientation question and two-step gender identity question for the foreseeable future.

Estimated Program Burden:

ACL estimates the annual burden associated with this collection of information as follows:

Respondent/data collection activity | Number of respondents | Responses per respondent | Hours per response | Annual burden hours
Area Agency on Aging: Respondent selection process | 300 | 1 | 4.0 | 1,200
Service recipients (i.e., Congregate and Home-Delivered Meal nutrition programs, Case Management, Homemaker, Transportation services) + Rotating Module | 4,000 | 1 | 0.75 | 3,000
National Family Caregiver Support Program clients + Rotating Module | 2,000 | 1 | 0.75 | 1,500
Total | 6,300 | 1 | * 0.90 | 5,700
* Weighted mean.

Dated: March 7, 2024.
Alison Barkoff,
Principal Deputy Administrator for the Administration for Community Living, performing the delegable duties of the Administrator and the Assistant Secretary for Aging.

[FR Doc. 2024-05310 Filed 3-12-24; 8:45 am]

BILLING CODE 4154-01-P